DEPARTMENT OF ENERGY

Federal Energy Regulatory Commission

[Docket No. CP20-27-000]

North Baja Pipeline, LLC; Notice of Availability of the Draft Environmental Impact Statement for The Proposed North Baja Xpress Project

The staff of the Federal Energy Regulatory Commission (FERC or Commission) has prepared a draft environmental impact statement (EIS) for the North Baja XPress Project (Project), proposed by North Baja Pipeline, LLC (North Baja) in the above-referenced docket. North Baja requests authorization to modify an existing compressor station in La Paz County, Arizona, as well as install additional flow measurement facilities and piping modifications at two existing meter stations in La Paz County, Arizona and Imperial County, California, respectively. North Baja states that the purpose of the Project is enable the transport of 495,000 dekatherms per day of natural gas to the United States/Mexico border for its shipper, Sempra LNG International, LLC.

The draft EIS responds to comments that were received on the Commission's September 8, 2020 Environmental Assessment (EA) ¹ and discloses downstream greenhouse gas emissions for the Project. With the exception of climate change impacts, the FERC staff concludes that approval of the proposed Project, with the mitigation measures recommended in the EIS, would not result in significant environmental impacts. FERC staff continues to be unable to determine significance with regards to climate change impacts.

¹ The Project's Environmental Assessment is available on eLibrary under accession no. 20200908-3009.

The U.S. Department of the Interior Bureau of Land Management (BLM) participated as a cooperating agency in the preparation of the EA and the draft EIS. Cooperating agencies have jurisdiction by law or special expertise with respect to resources potentially affected by the proposal and participate in the National Environmental Policy Act analysis. The BLM may adopt and use the EA and EIS to consider the issuance of a right-of-way grant for the use of a temporary workspace requested by North Baja on BLM-administered public lands adjacent to the Ogilby Meter Station in Imperial County, California.

The draft EIS incorporates the above-referenced EA, which addressed the potential environmental effects of the construction and operation of the following Project facilities:

• One new 31,900-horsepower compressor unit and restaging of two existing 7,700-horsepower compressor units at North Baja's existing Ehrenberg Compressor Station in La Paz County, Arizona; and

• flow measurement facilities and piping modifications at North Baja's existing El Paso and Ogilby Meter Stations in La Paz County, Arizona and Imperial County, California, respectively.

The Commission mailed a copy of the Notice of Availability of the Draft Environmental Impact Statement for the Proposed North Baja XPress Project to federal, state, and local government representatives and agencies; elected officials; environmental and public interest groups; Native American tribes; potentially affected landowners and other interested individuals and groups; and newspapers and libraries in the Project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e., CP20-27). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, including climate impacts due to downstream greenhouse gas emissions, and measures to avoid or lessen environmental impacts. To ensure consideration of your comments on the proposal in the final EIS, it is important that the Commission receive your comments on or before 5:00 p.m. Eastern Time on August 30, 2021.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP20-27-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: July 9, 2021.
Kimberly D. Bose,
Secretary.

[FR Doc. 2021-15058 Filed 7-14-21; 8:45 am]

BILLING CODE 6717-01-P